DEPARTMENT OF ENERGY

Federal Energy Regulatory Commission

[Docket No. ER00-2356-000]

Entergy Services, Inc.; Notice of Filing

Correction

In notice document 00-12216 appearing on page 31155 in the issue of Tuesday, May 16, 2000, make the following correction:

In the first column, the docket line and the subject line should appear as set forth above.

[FR Doc. C0-12216 Filed 5-23-00; 8:45 am]

BILLING CODE 1505-01-D

DEPARTMENT OF LABOR

Office of the Secretary

Submission for OMB Review; Comment Request

Correction

In notice document 00-10899 beginning on page 25503 in the issue of Tuesday, May 2, 2000, make the following correction:

On page 25504, in the second column, in the 31st line, “OMB Number:1281-0101” should read “OMB Number:1218-0101”

[FR Doc. C0-10899 Filed 5-23-00; 8:45 am]

BILLING CODE 1505-01-D

SECURITIES AND EXCHANGE COMMISSION

[Release No. 34-42730; File No. SR-ISE-00-02]

Self-Regulatory Organizations; Order Granting Approval of Proposed Rule Change by the International Securities Exchange LLC Relating to Its Fee Schedule

April 28, 2000.

Correction

In notice document 00-11229 appearing on page 26256, in the issue of Friday, May 5, 2000, the docket line should appear as set forth above.

[FR Doc. C0-11229 Filed 5-23-00; 8:45 am]

BILLING CODE 1505-01-D

DEPARTMENT OF TRANSPORTAION

Federal Aviation Administration

14 CFR Part 71

Modification of Class E Airspace, Coldwater, MI

Correction

In rule document 00-9405 beginning on page 20350 in the issue of Monday, April 17, 2000, make the following correction:

§71.1 [Corrected]

On page 20351, in §71.1, in the second column, in the 12th line from the bottom, “Mi” should read “MI”.

[FR Doc. C0-9405 Filed 5-23-00; 8:45 am]

BILLING CODE 1505-01-D

DEPARTMENT OF VETERANS AFFAIRS

Privacy Act of 1974; Amendment of Systems Notice; Appointment of New System Manager

Correction

In notice document 00-11086 appearing on page 25979, in the issue of Thursday, May 4, 2000, make the following correction

On page 25979, in the third column, the heading “45FVA21” should read “45VA21”.

[FR Doc. C0-11086 Filed 5-23-00; 8:45 am]

BILLING CODE 1505-01-D